DEPARTMENT OF ENERGY

Federal Energy Regulatory Commission

[Docket No. RP02-505-003;]

Kinder Morgan Interstate Gas Transmission LLC Notice of Compliance Filing

March 19, 2003.

Take notice that on March 14, 2003 Kinder Morgan Interstate Gas Transmission LLC (KMIGT) tendered for filing to become part of its FERC Gas Tariff, Fourth Revised Volume No. 1-B, Second Revised Sheet No. 41, to be effective April 13, 2003.

KMIGT states that the purpose of this filing is to comply with the Commission's “Order On Rehearing” issued on February 27, 2003, in Docket No. RP02-505-002.

KMIGT further states that copies of the filing are being served on all parties set out on the Commission's official service list in Docket No. RP02-505, et al.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 26, 2003.

Magalie R. Salas,
Secretary.

[FR Doc. 03-7216 Filed 3-25-03; 8:45 am]

BILLING CODE 6717-01-P